DEPARTMENT OF ENERGY

Federal Energy Regulatory Commission

[Docket No. MG00-7-000]

Texas Gas Transmission Corporation; Notice of Filing

May 10, 2000.

Take notice that on April 21, 2000, Texas Gas Transmission Corporation (Texas Gas) filed revised standards of conduct to reflect certain changes in office space shared with one of its marketing affiliates and to reflect certain changes in names and corporate organizational information since its previous standards of conduct filing in Docket No. MG98-5-000.

Texas Gas states that it has served copies of its revised standards of conduct upon each person designated on the official service list by the Secretary in the proceeding for Docket No. MG98-5-000.

Any person desiring to be heard or to protest said filing should file a motion to intervene or protest with the Federal Energy Regulatory Commission, 888 First Street, NE, Washington, D.C., 20426, in accordance with Rules 211 or 214 of the Commission's Rules of Practice and Procedure (18 CFR 385.211 or 385.214). All such motions to intervene or protest should be filed on or before May 25, 2000. Protests will be considered by the Commission in determining the appropriate action to be taken but will not serve to make protestants parties to the proceeding. Any person wishing to become a party must file a motion to intervene. Copies of this filing are on file with the Commission and are available for public inspection. This filing may be viewed on the web at http://www.ferc.fed.ud/online/rims.htm (call 202-208-2222 for assistance).

David P. Boergers,
Secretary.

[FR Doc. 00-12218 Filed 5-15-00; 8:45 am]

BILLING CODE 6717-01-M